NATIONAL AERONAUTICS AND SPACE ADMINISTRATION

[Notice (00-005)]

NASA Advisory Council (NAC), Space Science Advisory Committee (SScAC); Meeting.

AGENCY: National Aeronautics and Space Administration

ACTION: Notice of meeting.

SUMMARY: In accordance with the Federal Advisory Committee Act, Pub. L. 92-463, as amended, the National Aeronautics and Space Administration announces a forthcoming meeting of the NASA Advisory Council, Space Science Advisory Committee.

DATES: Tuesday, February 29, 2000, 8:30 a.m. to 5:45 p.m.; Wednesday, March 1, 2000, 8:00 a.m. to 5:30 p.m; Thursday, March 2, 2000, 8:15 a.m. to 12:15 p.m.

ADDRESSES: NASA Headquarters, Conference Room 7H46, 300 E Street, SW, Washington, DC 20546.

FOR FURTHER INFORMATION CONTACT: Dr. Jeffrey Rosendhal, Code S, National Aeronautics and Space Administration, Washington, DC 20546, 202/358-2470.

SUPPLEMENTARY INFORMATION: The meeting will be open to the public up to the capacity of the room. The agenda for the meeting is as follows:

—OSS Program Status/FY2001 Budget Proposal

—OSS Strategic Plan

—Report from Planetary Protection Task Force

—Report from Technology Readiness Task Force

—Astrobiology Program

—Theme Status Reports

—Technology Program Report

—Reports from Subcommittees

—Research Program Report

It is imperative that the meeting be held on these dates to accommodate the scheduling priorities of the key participants. Visitors will be requested to sign a visitor's register.

Dated: January 12, 2000.
Matthew M. Crouch,
Advisory Committee Management Officer, National Aeronautics and Space Administration.

[FR Doc. 00-1249 Filed 1-18-00; 8:45 am]

BILLING CODE 7510-01-P